ENVIRONMENTAL PROTECTION AGENCY

[EPA-HQ-OECA-2013-0356; FRL-9978-68-OEI]

Information Collection Request Submitted to OMB for Review and Approval; Comment Request; NESHAP for Group I Polymers and Resins (Renewal)

AGENCY: Environmental Protection Agency (EPA).

ACTION: Notice.

SUMMARY: The Environmental Protection Agency (EPA) has submitted an information collection request (ICR)—NESHAP for Group I Polymers and Resins (Renewal), EPA ICR Number 2410.04, OMB Control Number 2060-0665—to the Office of Management and Budget (OMB) for review and approval in accordance with the Paperwork Reduction Act. This is a proposed extension of the ICR, which is currently approved through May 31, 2018. Public comments were previously requested via the Federal Register on June 29, 2017 during a 60-day comment period. This notice allows for an additional 30 days for public comments. A fuller description of the ICR is given below, including its estimated burden and cost to the public. An agency may not conduct or sponsor and a person is not required to respond to a collection of information unless it displays a currently valid OMB control number.

DATES: Additional comments may be submitted on or before June 28, 2018.

ADDRESSES: Submit your comments, referencing Docket ID Number EPA-HQ-OECA-2013-0356, to (1) EPA online using www.regulations.gov (our preferred method), by email to docket.oeca@epa.gov, or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, EPA West, Room 3334, 1301 Constitution Ave. NW, Washington, DC. The telephone number for the Docket Center is 202-566-1744. For additional information about EPA's public docket, visit http://www.epa.gov/dockets.

Abstract: The National Emission Standards for Hazardous Air Pollutants (NESHAP) for the regulations published at 40 CFR part 63, subpart U were proposed on June 12, 1995, promulgated on September 5, 1996, and amended on June 19, 2000, July 16, 2001, December 16, 2008, and April 21, 2011. These regulations apply to existing and new elastomer product process units (EPPU) and associated equipment including waste management units, maintenance wastewater, heat exchange systems, and equipment required by or utilized to comply with this Subpart located at facilities that are major sources of hazardous air pollutants (HAPs) and are classified in the Group I Polymers and Resins source category. The Group I Polymers and Resins source category includes the following categories: Butyl Rubber Production, Epichlorohydrin Elastomers Production, Ethylene Propylene Rubber Production, Hypalon Production, Neoprene Production, Nitrile Butadiene Rubber (NBR) Production, Polybutadiene Rubber Production, Polysulfide Rubber Production, and Styrene Butadiene Rubber and Latex Production. New facilities include those that commenced construction, or reconstruction after the date of proposal. This ICR combines burden from the 2011 amendment with the burden associated with the existing provisions of the rule. In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP. Any owner/operator subject to the provisions of this part shall maintain a file containing these documents, and retain the file for at least five years following the generation date of such maintenance reports and records. All reports are sent to the delegated state or local authority. In the event that there is no such delegated authority, the reports are sent directly to the United States Environmental Protection Agency (EPA) regional office.

Form Numbers: None.

Respondents/affected entities: Facilities with elastomer product process units and associated equipment.

Respondent's obligation to respond: Mandatory (40 CFR part 63, subpart U).

Estimated number of respondents: 19 (total).

Frequency of response: Initially, occasionally, and semiannually.

Total estimated burden: 56,400 hours (per year). Burden is defined at 5 CFR 1320.3(b).

Total estimated cost: $11,200,000 (per year), includes $5,230,000 annualized capital or operation & maintenance costs.

Changes in the Estimates: There is an adjustment increase in the total estimated burden, labor costs, and capital and O&M costs as currently identified in the OMB Inventory of Approved Burdens. This increase is not due to any program changes. The change in the burden and cost estimates occurred because the previously approved ICR only covered the burden and costs associated with the 2011 amendment. This ICR combines the burden from both the 2011 amendment and the pre-2011 provisions of the rule.

Courtney Kerwin,
Director, Collection Strategies Division.

[FR Doc. 2018-11450 Filed 5-25-18; 8:45 am]

BILLING CODE 6560-50-P